FEDERAL ELECTION COMMISSION

11 CFR Part 112

[Notice 2024-25]

Contributions Through Untraceable Electronic Payment Methods

AGENCY: Federal Election Commission.

ACTION: Notification of availability of petition for rulemaking.

SUMMARY: The Commission announces its receipt of a Petition for Rulemaking submitted by Ken Paxton, Attorney General of Texas. The Petition asks the Commission to amend its regulations concerning the use of credit cards to make contributions, to address the potential use of prepaid cards to circumvent contribution amount limitations and source prohibitions.

DATES: Comments must be submitted on or before January 27, 2025.

ADDRESSES: All comments must be in writing. Commenters may submit comments electronically via the Commission's website at https://sers.fec.gov/fosers/, reference REG 2024-08.

Each commenter must provide, at a minimum, his or her first name, last name, city and state. All properly submitted comments, including attachments, will become part of the public record, and the Commission will make comments available for public viewing on the Commission's website and in the Commission's Public Records Office. Accordingly, commenters should not provide in their comments any information that they do not wish to make public, such as a home street address, personal email address, date of birth, phone number, social security number, or driver's license number, or any information that is restricted from disclosure, such as trade secrets or commercial or financial information that is privileged or confidential.

FOR FURTHER INFORMATION CONTACT: Robert M. Knop, Assistant General Counsel, or Joanna S. Waldstreicher, Attorney, 1050 First Street NE, Washington, DC 20463, (202) 694-1650 or (800) 424-9530.

SUPPLEMENTARY INFORMATION: On October 22, 2024, the Commission received a Petition for Rulemaking (“Petition”) from Ken Paxton, Attorney General of Texas. The Petition asks the Commission to adopt two amendments to its regulations concerning the use of credit cards to make contributions, to address the potential use of prepaid cards to circumvent contribution amount limitations and source prohibitions.

The Federal Election Campaign Act (the “Act”) limits the total amount a contributor may contribute to any given political committee.¹ The Act and Commission regulations also prohibit certain persons from making contributions at all.² The Act and Commission regulations further prohibit any person from making a contribution in the name of another person.³ In addition, the Act and Commission regulations require political committees to disclose identifying information from each contributor, including name, address, and—in some cases—the contributor's occupation and employer.⁴

¹ 52 U.S.C. 30116(a); see also 11 CFR 110.1, 110.2.

² 52 U.S.C. 30118, 30119, 30121; see also 11 CFR 110.4, 110.9(a), 110.14(c)(2), 114.2, 115.2, 300.10.

³ 52 U.S.C. 30122; see also 11 CFR 110.4(b).

⁴ 52 U.S.C. 30104; 11 CFR 104.3, 104.8.

The Petition asserts that “there has been substantial public reporting regarding potentially fraudulent transactions on political committee online platforms. Certain platforms appear to facilitate straw donor transactions, where a contributor disguises his identity by attributing his contribution to another, unaware person.” ⁵ The Petition further states that “prepaid cards are a favorite tool of fraudsters,” ⁶ and that “specific security measures can mitigate this problem,” such as comparing the identifying information supplied by contributors to the name, address, and other billing information on file with the issuer of the credit card used to make the contribution.⁷

⁵ Petition at 1.

⁶ Id.

⁷ Petition at 3.

Accordingly, the Petition states that “new regulations governing electronic payment acceptance and related problems are critical to ensuring the integrity of campaign finance laws.” ⁸ The Petition asks the Commission to adopt two amendments to 11 CFR 104.14:

⁸ Petition at 1.

• Amend 104.14(b)(5) to provide that records for contributions made by credit, debit, prepaid, or gift card must include documentation confirming that a cross-check occurred between the contributor's self-reported identifying information with the card issuing institution's own information on the name and billing address of the cardholder.

• Amend 104.14(e) to provide that contributions cannot be accepted from prepaid or gift cards unless the information from those prepaid or gift cards can be cross-checked with the card issuing institution to confirm the name and billing address required under paragraph (b)(5) of this rule.⁹

⁹ Petition at 7.

The Commission seeks comment on the Petition. The public may inspect the Petition on the Commission's website at http://www.fec.gov/fosers/ (reference REG 2024-08).

The Commission will not consider the Petition's merits until after the comment period closes. If the Commission decides that the Petition has merit, it may begin a rulemaking proceeding. The Commission will announce any action that it takes in the Federal Register.

Dated: November 19, 2024.
On behalf of the Commission,
Sean J. Cooksey,
Chairman, Federal Election Commission.

[FR Doc. 2024-27583 Filed 11-25-24; 8:45 am]

BILLING CODE 6715-01-P